DEPARTMENT OF THE INTERIOR

Bureau of Land Management, Interior

[CA-190-1232-FU]

Notice of Intent To Collect Fees on Public Land in San Benito and Fresno Counties, California Under the Federal Lands Recreation Enhancement Act

AGENCY: Bureau of Land Management, Interior.

ACTION: Notice of Intent to Collect Fees in the Clear Creek Special Recreation Management Area in San Benito and Fresno Counties, California.

SUMMARY: To meet increasing demands for service and maintenance, the Bureau of Land Management intends to implement a fee collection program for the Clear Creek Special Recreation Management Area in San Benito and Fresno Counties, California, beginning in January 2008. The fees will be based on a fixed weekly fee rate or a fixed seasonal rate, as explained in the SUPPLEMENTARY INFORMATION section below.

DATES: Written comments of interested persons must be postmarked not later than July 27, 2007. Collection of fees will start in January 2008, when notice thereof is posted in the Bureau of Land Management, Hollister Field Office, and at vehicle entry areas for the Clear Creek Special Recreation Management Area.

ADDRESSES: Interested persons may submit written comments to the Field Manager, Bureau of Land Management, Hollister Field Office, 20 Hamilton Court, Hollister, California 95023. The relevant BLM records are available for review at the above address during regular business hours 7:30 a.m. to 4 p.m., Monday through Friday, except holidays.

FOR FURTHER INFORMATION CONTACT: Rick Cooper, Field Manager, Hollister Field Office; or George Hill, Assistant Field Manager; 20 Hamilton Ct., Hollister, CA 95023. (831) 630-5000. E-mail: Rick Cooper@blm.gov/ca.

SUPPLEMENTARY INFORMATION: To meet increasing demands for services and maintenance of existing facilities, routes, and trails, the Bureau of Land Management (BLM)'s Hollister Field Office proposes to begin collecting fees January 2008 in the Clear Creek Special Recreation Management Area (CCMA) in San Benito and Fresno Counties, California, under the Federal Lands Recreation Enhancement Act (REA) of 2005. The primary recreation opportunity in the CCMA is off-highway vehicle use; however, more and more outdoor enthusiasts are engaging in other recreation activities in the CCMA with less surface impact, including hunting, hiking, backpacking, hang gliding, peak climbing, and rock hounding. Since the area offers recreation users both motorized and non-motorized recreation opportunities, the CCMA qualifies as a site wherein visitors can be charged a “Standard Amenity Recreation Fee” authorized under Section 3(f) and a “Special Recreation Permit Fee” authorized under section 3(h) of the REA. After receiving support, guidance, and recommendations from the Central California Resource Advisory Council (RAC), the BLM California State Office, and considerable public input, the BLM Hollister Field Office proposes a fee structure that would consist of charging a Standard Amenity Recreation (SAR) Fee of $5.00 per vehicle upon arriving at the site. This SAR Fee will only apply to users who use facilities at the Clear Creek Management Area and not for members of the public passing through the CCMA. For those visitors who would be participating in OHV use (e.g. ATVs, motorcycles, quads, dune buggies), a Special Recreation Permit Fee (SRP) of $10.00 per OHV would be charged upon arriving at the site. Both the SAR and SRP fees would be good for a weekly pass covering a period from Wednesday through Tuesday regardless of day of purchase. An SRP season pass in the amount of $80.00 would also be available for purchase.

BLM plans to seek review and a recommendation from the Pacific Southwest Region Resources Advisory Committee being established under the authority of the REA. The CCMA is a popular off-highway vehicle (OHV) recreation area and also offers excellent opportunities for hunting, hang gliding, rock hounding, hiking, backpacking, and peak climbing activities. The CCMA qualifies as an area where fees can be charged based on the significant opportunities for outdoor recreation, substantial Federal investment, the ability to collect fees efficiently, has designated developed parking, permanent toilets, permanent trash receptacles, interpretive signs, picnic tables, and security. The BLM's commitment is to find the proper balance between public use and the protection of sensitive resources. It is BLM's policy to “collect fees at all specialized recreation sites, or where the BLM provides facilities, equipment or services, at federal expense, in connection with outdoor recreation use.” The Clear Creek Special Recreation Management Area Fee Collection Project is intended to provide funding to maintain existing facilities and recreational opportunities, to provide for law enforcement presence, to develop additional services, and to protect unique and sensitive resources in the area.

The rationale for charging recreation fees was established in the Clear Creek Special Recreation Management Area Business Plan and in a manner consistent with the following criteria: (1) The amount of the recreation fee shall be commensurate with the benefits and services provided to the visitor; (2) The aggregate effect of recreation fees on recreation users and recreation service providers were considered; (3) Comparable fees charged elsewhere and by other public agencies and by nearby private sector operators were considered; (4) Public policy or management objectives served by the recreation fee were considered; (5) Recommendations and guidelines regarding initiating fee sites from the Central California Resource Advisory Council (RAC) was considered and incorporated into the Business Plan; and (6) Other factors or criteria as determined by the Secretary were considered.

The public has been notified and heavily involved since the inception of the idea to collect fees in the CCMA. The RAC; government officials; tribal, Federal, State, county, and local government agencies; environmentalists, recreationists, private in-holders and right-of-way holders have been notified of the Hollister Field Office's proposal to collect fees in the CCMA through direct mailings, bulletins, fee brochures, public meetings, and on-site information and public contact. The Clear Creek Management Area Resource Management Plan Amendment and Route Designation Record of Decision was issued January 2006 and allows for recreation opportunities and the charging of fees for use.

All recreation fee receipts would be retained at the site. Of this amount, at least 85% would be used for repair and maintenance projects, interpretation, signage, habitat or facility enhancement, resource preservation, maintenance, law enforcement directly related to recreation use, support volunteer projects, Challenge Cost Share projects, and similar partnership authorities directly relating to visitor enjoyment, visitor access, and health and safety at recreation fee projects. The Hollister Field Office would not use more than 15% of total fees collected for administration, overhead, and indirect costs related to the recreation fee program except in the case of SRPs where this amount can not be exceeded for overhead and indirect costs relating to issuing and administering the SRP.

Before including your address, phone number, e-mail address or other personal identifying information in your comment, you should be aware that your entire comment including your personal identifying information, may be made publicly available at any time. While you can ask in your comment to withhold from public review your personal identifying information, we cannot guarantee that we will be able to do so.

(Authority: 43 CFR 1824.10)

Dated: June 20, 2007.
Rick Cooper,
Field Manager, Hollister Field Office.

[FR Doc. E7-12412 Filed 6-26-07; 8:45 am]

BILLING CODE 4310-40-P